TENNESSEE VALLEY AUTHORITY

Agency Information Collection Activities: Information Collection Renewal; Comment Request

AGENCY: Tennessee Valley Authority (TVA).

ACTION: 60-Day notice of submission of information collection renewal approval and request for comments.

SUMMARY: The proposed information collection renewal described below will be submitted to the Office of Management and Budget (OMB) for review, as required by the Paperwork Reduction Act of 1995. The Tennessee Valley Authority is soliciting public comments on this proposed collection renewal.

DATES: Comments should be sent to the Public Information Collection Clearance Officer no later than April 24, 2023.

ADDRESSES: Requests for information, including copies of the information collection proposed and supporting documentation, should be directed to the Public Information Collection Clearance Officer: Jennifer A. Wilds, Specialist, Records Compliance, Tennessee Valley Authority, 400 W Summit Hill Dr., CLK-320, Knoxville, Tennessee 37902-1401.

FOR FURTHER INFORMATION CONTACT: Jennifer A. Wilds, Telephone (865) 632-6580 or by email at pra@tva.gov.

SUPPLEMENTARY INFORMATION: Type of Request: Renewal with minor modification.

Title of Information Collection: Employment Application.

OMB Control Number: 3316-0063.

Current Expiration Date: 04-30-2023.

Frequency of Use: On occasion.

Type of Affected Public: Individuals.

Small Businesses or Organizations Affected: No.

Federal Budget Functional Category Code: 455.

Estimated Number of Annual Responses: 14,475.

Estimated Total Annual Burden Hours: 3,185.

Estimated Average Burden Hours per Response: 0.2.

Need for and Use of Information: Applications for employment are needed to collect information on qualifications, suitability for employment, and eligibility for veteran's preference. The information is used to make comparative appraisals and to assist in selections. The affected public consists of individuals who apply for TVA employment.

Rebecca L. Coffey,
Agency Records Officer.

[FR Doc. 2023-03460 Filed 2-21-23; 8:45 am]

BILLING CODE 8120-08-P